DEPARTMENT OF HOMELAND SECURITY

Bureau of Customs and Border Protection

Required Advance Electronic Presentation of Cargo Information: Compliance Dates for Rail Carriers

Correction

In notice document 04-8199 beginning on page 19207 in the issue of Monday, April 12, 2004, make the following correction:

On page 19207, in the second column, in the second paragraph, in the seventh line, “affected 3 carriers” should read “affected carriers.”

[FR Doc. C4-8199 Filed 4-22-04; 8:45 am]

BILLING CODE 1505-01-D

NUCLEAR REGULATORY COMMISSION

Review and Status of Surface and Volumetric Survey Design and Analysis Using Spatial Analysis and Decision Assistance (SADA) Methods; Public Workshop

Correction

In notice document 04-8634 beginning on page 20651 in the issue of Friday, April 16, 2004, make the following corrections:

1. On page 20652, in the first column, under the heading “dates”, in the fourth line, “http://www.tiem.utk.edu/-sada/” should read “http://www.tiem.utk.edu/~sada/”.

2. On the same page, in the same column, under the heading “for further information contact”, in the last line, “www.tiem.utk.edu/-sada/” should read “http://www.tiem.utk.edu/~sada/”.

[FR Doc. C4-8634 Filed 4-22-04; 8:45 am]

BILLING CODE 1505-01-D